DEPARTMENT OF DEFENSE

Department of the Navy

Notice of Intent To Grant a Partially Exclusive License; Aviation Devices and Electronic Components, L.L.C.

AGENCY: Department of the Navy, DoD.

ACTION: Notice.

SUMMARY: The Department of the Navy hereby gives notice of its intent to grant to Aviation Devices and Electronic Components, L.L.C. located at 1810 Mony Street, Ft. Worth, Texas 76102, a revocable, nonassignable, partially exclusive license throughout the United States (U.S.) in the fields of Adhesives, Sealants, Gaskets, Pastes and Tapes the Government-Owned inventions described in U.S. Patent No. 8,262,938: issued January 21, 2011, Navy Case No. PAX53 entitled “Active Aluminum Rich Coatings”//U.S. Patent No. 8,277,688: issued October 2, 2012, Navy Case No. PAX81 entitled “Aluminum Alloy Coated Pigments and Corrosion-Resistant Coatings”//U.S. Patent Application No: 13/564,341 filed August 1, 2012, Navy Case No. PAX115 entitled “Oxide Coated Metal Pigments and Film-Forming Compositions”//U.S. Patent Application No.: 13/628,323 filed September 27, 2012, Navy Case No. PAX121 entitled “Coated Aluminum Alloy Pigments and Corrosion-Resistant Coatings”.

DATES: Anyone wishing to object to the grant of this license must file written objections along with supporting evidence, if any, not later than December 26, 2013.

ADDRESSES: Written objections are to be filed with the Naval Air Warfare Center Aircraft Division, Technology Transfer Office, Attention Michelle Miedzinski, Code 5.0H, 22473 Millstone Road, Building 505, Room 117, Patuxent River, Maryland 20670.

FOR FURTHER INFORMATION CONTACT: Dan Swanson, 406-994-7736, dss@montana.edu, TechLink, 2310 University Way, Building 2-2, Bozeman, MT 59715. TechLink is an authorized Department of Defense Partnership Intermediary.

Authority: 35 U.S.C. 207, 37 CFR Part 404.

Dated: December 4, 2013.
N.A. Hagerty-Ford,
Commander, Office of the Judge Advocate General, U.S. Navy, Federal Register Liaison Officer.

[FR Doc. 2013-29518 Filed 12-10-13; 8:45 am]

BILLING CODE 3810-FF-P